DEPARTMENT OF HOMELAND SECURITY

Coast Guard

33 CFR Part 165

[Docket No. USCG-2014-0620]

RIN 1625-AA00

Safety Zone; Annual Events in the Captain of the Port Detroit Zone—Lakeside Labor Day Fireworks, Lakeside, OH

AGENCY: Coast Guard, DHS.

ACTION: Notice of Enforcement of Regulation.

SUMMARY: The Coast Guard will enforce the Lakeside Labor Day Fireworks safety zone on Lake Erie in Lakeside, Ohio for the Lakeside End of Season Fireworks. This zone will be enforced from 9:45 p.m. until 10:30 p.m. on August 30, 2014. This action is necessary and intended to ensure safety of life on the navigable waters during the Lakeside End of Season Fireworks. During the aforementioned periods, the Coast Guard will enforce restrictions upon, and control movement of, vessels in the safety zone. No person or vessel may enter the safety zone while it is being enforced without permission of the Captain of the Port Detroit.

DATES: The regulations in paragraph (c) of 33 CFR 165.941 will be enforced for the safety zone listed in paragraph (a)(27) of that section from 9:45 p.m. until 10:30 p.m. on August 30, 2014.

FOR FURTHER INFORMATION CONTACT: If you have questions on this document, call or email LT Jennifer M. Disco, Waterways Branch Chief, Marine Safety Unit Toledo, 420 Madison Ave., Suite 700, Toledo, Oh, 43604; telephone (419) 418-6049; email Jennifer.M.Disco@uscg.mil.

SUPPLEMENTARY INFORMATION: The Coast Guard will enforce the Lakeside End of Season Fireworks safety zone listed in paragraph (a)(27) in 33 CFR 165.941. Section 165.941 lists many annual events requiring safety zones in the Captain of the Port Detroit zone. This Lakeside End of Seasons Fireworks zone encompasses all waters and adjacent shoreline of Lake Erie located within an area that is approximately 560 foot radius of the fireworks launch site located at position 41°32′52″ N, 82°45′03″ W. (NAD 83). This zone will be enforced between from 9:45 p.m. until 10:30 p.m. on August 30, 2014.

All vessels must obtain permission from the Captain of the Port Detroit, or his or her on-scene representative to enter, move within, or exit the safety zone. Requests must be made in advance and approved by the Captain of the Port before transits will be authorized. Approvals will be granted on a case by case basis. Vessels and persons granted permission to enter the safety zone must obey all lawful orders or directions of the Captain of the Port Detroit, or his or her designated representative.

This document is issued under authority of 33 CFR 165.941, Safety Zones; Annual events in the Captain of the Port Detroit zone, and 5 U.S.C. 552(a). In addition to this publication in the Federal Register, the Coast Guard will provide the maritime community with advance notification of this event via Broadcast Notice to Mariners or Local Notice to Mariners. The Captain of the Port Detroit or his or her on-scene representative may be contacted via VHF Channel 16.

Dated: July 3, 2014.
S. B. Lemasters,
Captain, U.S. Coast Guard, Captain of the Port Detroit.

[FR Doc. 2014-16918 Filed 7-17-14; 8:45 am]

BILLING CODE 9110-04-P